DEPARTMENT OF VETERANS AFFAIRS

[OMB Control No. 2900-0422]

Agency Information Collection Activity: VAAR Construction Provisions and Clauses

AGENCY: Office of Acquisition and Logistics, Department of Veterans Affairs.

ACTION: Notice.

SUMMARY: Office of Acquisition and Logistics (OAL), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 17, 2025.

ADDRESSES: Comments must be submitted through www.Regulations.gov.

FOR FURTHER INFORMATION CONTACT:

Program-Specific Information: Forrest Browne, 202-632-9677, Forrest.Browne@va.gov.

VA PRA Information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OAL invites comments on: (1) whether the proposed collection of information is necessary for the proper performance of OAL's functions, including whether the information will have practical utility; (2) the accuracy of OAL's estimate of the burden of the proposed collection of information; (3) ways to enhance the quality, utility, and clarity of the information to be collected; and (4) ways to minimize the burden of the collection of information on respondents, including through the use of automated collection techniques or the use of other forms of information technology.

Title: VAAR Construction Provisions and Clauses.

OMB Control Number: 2900-0422. https://www.reginfo.gov/public/do/PRASearch (Once at this link, you can enter the OMB Control Number to find the historical versions of this Information Collection).

Type of Review: Extension without change of a currently approved collection.

Abstract: This Paperwork Reduction Act (PRA) submission seeks renewal without changes of Office of Management and Budget (OMB) approval No. 2900-0422 for five collections of information for the Department of Veterans Affairs Acquisition Regulation (VAAR) clauses, as follows:

• Clause 852.232-70, Payment Under Fixed-Price Construction Contracts (without NAS-CPM), requires construction contractors not using Network Analysis System-Critical Path Method (NAS-CPM), to submit a schedule of costs for work to be performed under the contract.

• Clause 852.232-71, Payment Under Fixed-Price Construction Contracts (including NAS-CPM), requires construction contractors using NAS-CPM, to submit a schedule of costs for work to be performed under the contract.

• Clause 852.236-72, Performance of Work by the Contractor, requires contractors awarded a construction contract containing Federal Acquisition Regulation clause 52.236-1, Performance of Work by the Contractor, to submit a statement designating the branch or branches of contract work to be performed by the contractor's own forces.

• Clause 852.236-80, Subcontracts and Work Coordination, requires construction contractors, on contracts involving complex mechanical-electrical work, to furnish coordination drawings showing the manner in which utility lines will fit into available space and relate to each other and to the existing building elements.

• Clause 852.243-70, Construction Contract Changes-Supplement, requires contractors to submit cost proposals for changes ordered by the contracting officer or for changes proposed by the contractor.

Affected Public: Business or other for-profit.

Estimated Annual Burden: 2,974 hours.

Estimated Average Burden per Respondent: 105 minutes.

Frequency of Response: More than quarterly.

Estimated Number of Respondents: 1,706.

(Authority: 44 U.S.C. 3501 et seq.)

Lanea Haynes,
Acting, VA PRA Clearance Officer, (Alt) Office of Enterprise and Integration/Data Governance Analytics, Department of Veterans Affairs.

[FR Doc. 2025-17968 Filed 9-16-25; 8:45 am]

BILLING CODE 8320-01-P